NATIONAL CREDIT UNION ADMINISTRATION

Sunshine Act; Notice of Agency Meeting

TIME AND DATE: 10 a.m., Thursday, July 21, 2011.

PLACE: Board Room, 7th Floor, Room 7047, 1775 Duke Street (All visitors must use Diagonal Road Entrance), Alexandria, VA 22314-3428.

STATUS: Open.

MATTERS TO BE CONSIDERED

1. Final Rule—Parts 700, 701, 702, and 741 of NCUA's Rules and Regulations, Net Worth and Equity Ratio Definitions.

2. Interim Final Rule—Section 701.30 of NCUA's Rules and Regulations, Remittance Transfers.

3. Proposed Rule—Part 712 of NCUA's Rules and Regulations, Credit Union Service Organizations.

4. Appointment of Deputy Executive Director as the Agency Chief Operating Officer.

5. Clarification and Standardization of Corporate Credit Union Calculations of Moving Daily Average Net Assets and Moving Monthly Average Net Risk-Weighted Assets.

6. Stabilization Fund Borrowing.

7. Reprogramming of NCUA's Operating Budget for 2011.

8. Insurance Fund Report.

RECESS: 11:15 a.m.

TIME AND DATE: 11:30 a.m., Thursday, July 21, 2011.

PLACE: Board Room, 7th Floor, Room 7047, 1775 Duke Street, Alexandria, VA 22314-3428.

STATUS: Closed.

MATTERS TO BE CONSIDERED

1. Consideration of Supervisory Activity. Closed pursuant to some or all of the following: exemptions (8), (9)(A)(ii) and 9(B).

FOR FURTHER INFORMATION CONTACT: Mary Rupp, Secretary of the Board, Telephone: 703-518-6304.

Mary Rupp,
Board Secretary.

[FR Doc. 2011-18243 Filed 7-15-11; 11:15 am]

BILLING CODE 7535-01-P